DEPARTMENT OF DEFENSE

Department of the Air Force

[Docket ID USAF-2008-0051]

Privacy Act of 1974; System of Records

AGENCY: Department of the Air Force, DOD.

ACTION: Notice to Add a System of Records.

SUMMARY: The Department of the Air Force proposes to add a system of records to its inventory of record systems subject to the Privacy Act of 1974 (5 U.S.C. 552a), as amended.

DATES: The proposed action will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on December 17, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: December 18, 2008.
Morgan E. Frazier,
Alternate OSD Federal Register Liaison Officer, Department of Defense.

F036 AFRC A

System name:

Air Force Inactive Duty Training Records.

System location:

Department of the Air Force, HQ AFRC/FMXS, 155 Richard Ray Blvd., Robins Air Force Base, GA 31098-1635.

Categories of individuals covered by the system:

Air Force Reserves Command personnel and reservists.

Categories of records in the system:

Full name of the individual, military grade, Social Security Number (SSN), Military Reserve and Inactive Duty Training participation records.

Authority for maintenance of the system:

10 U.S.C. Code 8013, Department of the Air Force; AFRCI 65-601, Budget Programming and Financial Management; DoD 5000.2-R, Mandatory Procedures for Major Defense Acquisition Programs (MDAPS) and Major Automated Information System Acquisition Programs; and E.O. 9397 (SSN).

Purpose:

Manages Inactive Duty Training (IDT) periods such as Unit Training Assembly (UTAs), Readiness Management Period (RMPs), Points Only (PNTs), and Funeral Honor Duty (FHDs) and provides Air Force Reserve Commanders on-site IDT participation information.

Routine uses of records maintained in the system, including categories of users and the purposes of such uses:

In addition to those disclosures generally permitted under 5 U.S.C. 552a(b) of the Privacy Act of 1974, these records or information contained therein may specifically be disclosed outside the Department of Defense as a routine use pursuant to 5 U.S.C. 552a(3).

The “Blanket Routine Uses” published at the beginning of the Air Force's compilation of the systems of records notices apply to this system.

Policies and Practices for Storing, Retrieving, Accessing, Retaining, and Disposing of Records in the System:

Retrievability:

By member's Name and/or Social Security Number.

Safeguards:

Access is restricted by the use of the Common Access Card, user accounts and user roles. The user roles determine the level of data access received. The transmission of data is protected by using Secure Sockets Layer encryption.

Retention and disposal:

Data stored within the system is retained only for the period required to satisfy recurring processing requirement and historical requirements, then the expired data is deleted from the system database.

System manager and address:

Department of the Air Force, HQ AFRC/FMXS, 155 Richard Ray Blvd., Robins AFB, GA 31098-1635.

Notification procedure:

Individuals seeking to determine if the Reserve Command Unit Training Assembly Processing System contains information on themselves should submit written inquiries to HQ AFRC/FMXS, 155 Richard Ray Blvd., Robins AFB, GA 31098-1635.

The request should contain the full name of the individual, military grade, Social Security Number (SSN) and must be signed.

Record access procedures:

Individuals seeking to access system information about themselves contained in the Reserve Command Unit Training Assembly Processing System should submit written inquiries to HQ AFRC/FMXS, 155 Richard Ray Blvd., Robins AFB, GA 31098-1635.

The request should contain the full name of the individual, military grade, Social Security Number (SSN) and must be signed.

Contesting record procedures:

The Air Force rules for accessing records and for contesting contents and appealing initial agency determinations are published in Air Force Instruction 33-332; 32 CFR part 806b; or may be obtained from the system manager.

Record source categories:

From the individual and Air Reserve Order Writing System—Reserve.

Exemptions claimed for the system:

None.

[FR Doc. E8-30866 Filed 12-29-08; 8:45 am]

BILLING CODE 5001-06-P